ELECTION ASSISTANCE COMMISSION

Sunshine Act Notice

Agency: United States Election Assistance Commission.

Action: Notice of public meeting for the Executive Board of the EAC Standards Board (amended).

Date & Time: Tuesday, August 23, 2005, 6:30 p.m.-8:30 p.m.

Place: Adam's Mark Hotel, 1550 Court Place, Denver, CO 80202.

Topics: The Executive Board of the U.S. Election Assistance Commission (EAC) Standards Board will meet to plan and prepare for the meeting of Standards Board, to plan and prepare a presentation of recommendations to the Standards Board on the Voluntary Voting System Guidelines proposed by EAC, and to handle other administrative matters.

Person to Contact for Information: Bryan Whitener, Telephone: (202) 566-3100.

Thomas R. Wilkey,
Executive Director, U.S. Election Assistance Commission.

[FR Doc. 05-15549 Filed 8-2-05; 8:45 am]

BILLING CODE 6820-KF-M